DEPARTMENT OF AGRICULTURE

Forest Service

Wasatch Plateau Sheep Grazing

AGENCY: Forest Service, Manti-La Sal National Forest, Sanpete, Carbon, Utah and Emery Counties, Utah, USDA.

ACTION: Notice of intent to prepare Environmental Impact Statement.

SUMMARY: The Forest Service will prepare an Environmental Impact Statement (EIS) to disclose the environmental effects of issuance of 42 Term Grazing Permits that authorize sheep grazing on 31 allotments on the Wasatch Plateau. The project analysis area is located on top of the Wasatch Plateau approximately 9 miles east of Ephraim, Utah and approximately 16 miles west of Castle Dale, Utah, between the Price River drainage on the north and Mooseneah Peak on the south.

The need for this analysis is to meet direction specified by section 504 of Public Law 104-19 (The Rescission Act of 1995) and bring grazing in compliance with Forest Plan direction, applicable laws, regulation and policy. The selected alternative, associated mitigations and management strategies will be implemented through the Term Grazing Permit and a specific allotment management plan.

The area being analyzed is National Forest System lands where grazing is authorized by permit. This involves approximately 171,000 acres of which 118,000 acres are suitable for sheep grazing. The permitted number of livestock is 33,382 head of sheep that generally graze from July 1 to September 30 for 30,587 animal unit months.

The proposed action is to continue livestock grazing with modification of the permitted number of sheep and inclusion of additional management requirements in Term Grazing Permits. (Final permitted number of sheep, by allotment, is displayed on Table A.)

Table A.—Part 1—Wasatch Plateau Sheep Grazing Proposed Action
Allotment | Permitted number of sheep | Permitted grazing season
Black Canyon | 1,000 | 7/01-09/30
Clay Banks | 1,155 | 7/01-09/30
Heliotrope | 1,250 | 7/01-09/25
Indian Creek | 1,000 | 7/01-09/30
Little Petes Hole | 971 | 7/15-09/30
Joes Valley | 1,276 | 6/13-09/30
Olsen Bench | 1,130 | 6/21-09/30
Peavine | 1,000 | 7/01-09/20
Potters Canyon | 600 | 7/01-09/30
Reeder Ridge | 1,100 | 6/26-09/30
Ridley Ridge | 1,090 | 7/01-09/30
Wagon Road Ridge | 993 | 7/11-09/30
Bob Wright | 1,013 | 7/01-09/30
Booths Canyon | 565 | 7/01-09/30
Crandall Canyon | 658 | 7/06-09/25
Crandall Ridge | 354 | 7/01-09/30
Eccles | 750 | 7/16-09/25
Horse Creek | 666 | 7/01-09/30
South Skyline | 1,019 | 7/07-09/30
Spring Lake | 1,080 | 7/08-09/30
Trough Springs Ridge | 1,000 | 7/01-09/30
Candland | 1,060 | 7/01-09/30
Monument Peak | 361 | 7/01-09/30
Swens | 559 | 7/01-09/30

Table A.—Part 2—Wasatch Plateau Sheep Grazing Proposed Action
Allotment | Permitted Number of Sheep | Permitted Grazing Season
Mountain Lion | 1,000 | 6/14-09/30
Beaver Dams-Boulger | 1,200 | 7/06-10/05
Birch Creek-Bear Canyon | 1,100 | 6/06-09/30
Cottonwood-Gooseberry | 900 | 7/06-09/30
Island Lake | 954 | 7/05-09/25
Order Mountain | 1,095 | 7/01-09/25
Willow Creek | 1,000 | 7/01-09/25

DATES: Written comments concerning the scope of the analysis described in this Notice should be received on or before July 19, 2001.

ADDRESSES: Send written comments to Ferron/Price Ranger District, Wasatch Plateau Sheep Grazing EIS, P.O. Box 310, Ferron, UT 84523.

FOR FURTHER INFORMATION CONTACT: Questions concerning the proposed action and EIS should be addressed to John Healy, Supervisory Range Management Specialist, Ferron/Price Ranger District, (435) 384-2372.

SUPPLEMENTARY INFORMATION: This EIS will tier to the final EIS for the Manti-La Sal National Forest Land and Resource Management Plan (Forest Plan). The Manti-La Sal Forest Plan provides the overall guidance (Goals, Objectives, Standards, and Management Area Direction) to achieve the desired future condition for the area being analyzed, and contains specific management area prescriptions for the entire Forest.

Initial scoping and issue development identified the following tentative issues: water quality, endangered and sensitive plant and animal species, cultural resources, social, economic, recreation, noxious weeks, riparian, and rangeland health.

The Forest Service has previously scoped this project on two separate occasions, April 1999 and April 2000. If you have already commented, your comments are part of the record and will be considered in determining issues, and alternatives. The Forest Service is seeking additional information and comments from Federal, State, and local agencies as well as individuals and organizations that may be interested in, or affected by the proposed action. The Forest Service invites written comments and suggestions on the issues related to the proposal and the area being analyzed. Information received will be used in preparation of the Draft EIS and Final EIS. For most effective use, comments should be submitted to the Forest Service within 30 days from the date of publication of this Notice in the Federal Register.

Agency representatives and other interested people are invited to visit with Forest Service officials at any time during the EIS process. Two specific time periods are identified for the receipt of formal comments on the analysis. The two comment periods are, (1) during the scoping process, the next 30 days following publication of this Notice in the Federal Register, and (2) during the formal review period of the Draft EIS.

The Draft EIS is estimated to be filed with the Environmental Protection Agency (EPA) and available for public review on December 20, 2001. At that time, the EPA will publish an availability notice of the Draft EIS in the Federal Register. The comment period on the Draft EIS will be 45 days from the date the Environmental Protection Agency publishes the notice of availability in the Federal Register.

The Forest Service believes it is important to give reviewers notice at this early stage of several court rulings related to public participation in the environmental review process. First, reviewers of Draft EIS's structure their participation in the environmental review of the proposal so that it is meaningful and alerts an agency to the reviewers' position and intentions.

Vermont Yankee Nuclear Power Corp. v. NRDC, 435 U.S. 519, 553 (1978). Also, environmental objections that could be raised at the draft environmental impact statement stage but are not raised until after completion of the final environmental impact statement may be waived or dismissed by the courts. City of Angoon v. Hodel, 803 F. 2d 1016, 1022 (9th Circuit, 1986) and Wisconsin Heritages, Inc. v. Harris, 490 F. Supp. 1334, 1338 (E.D. Wis. 1980). Because of these court rulings, it is very important that those interested in this proposed action participate by the close of the 45-day comment period so that substantive comments and objections are made available to the Forest Service at a time when we can meaningfully consider them and respond to them in the Final EIS.

To assist the Forest Service in identifying and considering issues and concerns on the proposed action, comment on the Draft EIS should be as specific as possible. It is also helpful if comments refer to specific pages or chapters of the Draft EIS. Comments may also address the adequacy of the Draft EIS or the merits of the alternatives formulated and discussed in the statement. (Reviewers may wish to refer to the Council on Environmental Quality Regulations for implementing the procedural provisions of the National Environmental Policy Act, 40 CFR 1503.3 in addressing these points.)

The Final EIS is expected to be released April 30, 2002.

The Sanpete an Ferron/Price District Rangers, Manti-La Sal National Forest, are the responsible officials for the EIS. They will make a decision regarding this proposal, after considering the comments, responses, and environmental consequences discussed in the Final Environmental Impact Statement, and applicable laws, regulations, and policies. The reasons for the decision will be documented in a Record of Decision.

Dated: June 1, 2001.
Elaine J. Zieroth,
Forest Supervisor.

[FR Doc. 01-15410 Filed 6-18-01; 8:45 am]

BILLING CODE 3410-11-M